DEPARTMENT OF ENERGY

Federal Energy Regulatory Commission

[Docket No. ER00-1-003, et al.]

TransEnergie U.S., et. al.; Electric Rate and Corporate Regulation Filings

August 31, 2000.

Take notice that the following filings have been made with the Commission:

1. TransEnergie U.S. Ltd.

[Docket No. ER00-1-003]

Take notice that on August 23, 2000, TransEnergie U.S. Ltd., tendered for filing a report of its open season for the Cross Sound Cable Interconnector.

TransEnergie also asks that portions of the report be granted confidential treatment under Section 388.112 of the Commission's Regulations. These portions are the results of Tranche 1 of the open season.

Comment date: September 13, 2000, in accordance with Standard Paragraph E at the end of this notice.

2. Southwest Power Pool

[Docket No. ER00-2713-001]

Take notice that on August 28, 2000, Southwest Power Pool, Inc. (SPP), tendered for filing in compliance filing in response to the Commission's July 28, 2000 order in this proceeding.

SPP seeks an effective date of June 6, 2000, for the changes contained therein.

Copies of this filing were served on all affected state commissions, all SPP customers, and all parties included on the official service list established in this proceeding.

Comment date: September 18, 2000, in accordance with Standard Paragraph E at the end of this notice.

3. Public Service Company of New Mexico

[Docket No. ER00-2907-001]

Take notice that on August 28, 2000, Public Service Company of New Mexico (PNM) submitted for filing a response in compliance with the Federal Energy Regulatory Commission (FERC) August 14, 2000 letter conditionally accepting its June 20, 2000 filing in the docket, regarding two executed service agreements and an executed amendment to one of the agreements, with Texas New Mexico Power Company (TNMP). PNM has updated its June 20, 2000 filing to include the proper rate schedule designations for the service agreements and amendment, per requirements in Order No. 614, FERC Stats. & Regs. ¶31,096 (2000), and per FERC's August 14, 2000 letter. PNM's filing is available for public inspection at its offices in Albuquerque, New Mexico.

Copies of the filing have been sent to TNMP and to the New Mexico Public Regulation Commission.

Comment date: September 18, 2000, in accordance with Standard Paragraph E at the end of this notice.

4. MidAmerican Energy Company

[Docket No. ER00-2976-001]

Take notice that on August 29, 2000, MidAmerican Energy Company (MidAmerican), 666 Grand Avenue, Des Moines, Iowa 50309, filed with the Commission a Power Sales Agreement dated January 28, 1997, modified by way of a First Amendment to Power Sales Agreement dated February 10, 1999, entered into with Waverly Light and Power, pursuant to MidAmerican's Rate Schedule for Power Sales, FERC Electric Tariff, Original Volume No. 5.

MidAmerican requested and the Director, Division of Corporate Applications, approved a June 29, 2000 effective date for the Power Sales Agreement, as amended, subject to MidAmerican making a compliance filing to conform MidAmerican's previous filing in this matter dated June 28, 2000 to be consistent with the necessary filing rate schedule designations as required by Order 614, FERC Stats. & Regs. ¶ 31,096 (2000) and Southwest Power Pool Inc., 92 FERC ¶ 61,109 (2000).

MidAmerican has served a copy of the compliance filing on Waverly Light and Power, the Iowa Utilities Board, the Illinois Commerce Commission and the South Dakota Public Utilities Commission.

Comment date: September 19, 2000, in accordance with Standard Paragraph E at the end of this notice.

5. PPL Montour, LLC

[Docket No. ER00-3028-001]

Take notice that on August 28, 2000, PPL Montour, LLC (PPL Montour), tendered for filing with the Federal Energy Regulatory Commission a compliance filing pursuant to the Commission's order in PPL Montour, LLC, Docket No. ER00-3028-000 (Letter Order Issued July 28, 2000).

PPL Montour stated that it served a copy of its filing upon each person designated on the official service list compiled by the Secretary in this proceeding.

Comment date: September 18, 2000, in accordance with Standard Paragraph E at the end of this notice.

6. PPL Montour, LLC

[Docket No. ER00-3029-001]

Take notice that on August 28, 2000, PPL Montour, LLC (PPL Montour), tendered for filing with the Federal Energy Regulatory Commission a compliance filing pursuant to the Commission's order in PPL Montour, LLC, Docket No. ER00-3029-000 (Letter Order Issued July 28, 2000).

PPL Montour stated that it served a copy its filing upon each person designated on the official service list compiled by the Secretary in this proceeding.

Comment date: September 18, 2000, in accordance with Standard Paragraph E at the end of this notice.

7. PPl Montour, LLC

[Docket No. ER00-3030-001 and ER00-3034-001]

Take notice that on August 28, 2000, PPL Montour, LLC (PPL Montour), tendered for filing with the Federal Energy Regulatory Commission a compliance filing pursuant to the Commission's order in PPL Montour, LLC, Docket No. ER00-3030-000 and ER00-3034-000 (Letter Order Issued July 28, 2000).

PPL Montour stated that it served a copy of its filing upon each person designated on the official service list compiled by the Secretary in this proceeding.

Comment date: September 18, 2000, in accordance with Standard Paragraph E at the end of this notice.

8. PPL Montour, LLC

[Docket Nos. ER00-3031-001 and ER00-3036-001]

Take notice that on August 28, 2000, PPL Montour, LLC (PPL Montour), tendered for filing with the Federal Energy Regulatory Commission a compliance filing pursuant to the Commission's order in PPL Montour, LLC, Docket No. ER00-3031-000 and ER00-3036-000 (Letter Order Issued July 28, 2000).

PPL Montour stated that it served a copy its filing upon each person designated on the official service list complied by the Secretary in this proceeding.

Comment date: September 18, 2000, in accordance with Standard Paragraph E at the end of this notice.

9. PPL Montour, LLC

[Docket No. ER00-3032-000]

Take notice that on August 28, 2000, PPL Montour, LLC (PPL Montour), tendered for filing with the Federal Energy Regulatory Commission a compliance filing pursuant to the Commission's order in PPL Montour, LLC, Docket No. ER00-3032-000 (Letter Order Issued July 28, 2000).

PPL Montour stated that it served a copy its filing upon each person designated on official service list complied by the Secretary in this proceeding.

Comment date: September 18, 2000, in accordance with Standard Paragraph E at the end of this notice.

10. PPL EnergyPlus, LLC

[Docket No. ER00-3033-001]

Take notice that on August 28, 2000, PPL EnergyPlus, LLC (PPL EnergyPlus), tendered for filing with the Federal Energy Regulatory Commission a compliance filing pursuant to the Commission's order in PPL Montour, LLC, Docket No. ER00-3033-000 (Letter Order Issued July 28, 2000).

PPL EnergyPlus stated that it served a copy its filing upon each person designated on the official service list complied by the Secretary in this proceeding.

Comment date: September 18, 2000, in accordance with Standard Paragraph E at the end of this notice.

11. Allegheny Energy Service Corporation, on behalf of Allegheny Energy Supply Company LLC

[Docket No. ER00-3540-000]

Take notice that on August 28, 2000, Allegheny Energy Service Corporation on behalf of Allegheny Energy Supply Company, LLC (Allegheny Energy Supply), tendered for filing Notice of Cancellation of Service Agreement No. 37 with Delmarva Power and Light Company, a customer of the Market Rate Tariff under which Allegheny Energy Supply offers generation services.

Allegheny Energy Supply has requested a waiver of notice to allow the cancellation to be effective June 1, 2000.

Copies of the filing have been provided to the Public Utilities Commission of Ohio, the Pennsylvania Public Utility Commission, the Maryland Public Service Commission, the Virginia State Corporation Commission, and the West Virginia Public Service Commission.

Comment date: September 18, 2000, in accordance with Standard Paragraph E at the end of this notice.

12. Wisconsin Electric Power Company

[Docket No. ER00-3542-000]

Take notice that on August 28, 2000, Wisconsin Electric Power Company (Wisconsin Electric), tendered for filing notice that effective December 15, 2000, Rate Schedule No. 87, effective December 15, 1995 and filed with the Federal Energy Regulatory Commission by Wisconsin Electric Power Company is to be canceled as requested by the customer the City of Kiel, Wisconsin (Kiel).

Copies of the filing have been served on Kiel, Michigan Public Service Commission, and the Public Service Commission of Wisconsin.

Comment date: September 18, 2000, in accordance with Standard Paragraph E at the end of this notice.

13. Allegheny Energy Service Corporation, on behalf of Allegheny Energy Supply Company LLC (AE Supply)

[Docket No. ER00-3543-000]

Take notice that on August 28, 2000, Allegheny Energy Service Corporation on behalf of Allegheny Energy Supply Company, LLC (AE Supply), tendered for filing a Service Agreement with The Potomac Edison Company d/b/a Allegheny Power in order for Allegheny Power to supply service to its Virginia retail customers.

AE Supply has requested a waiver of notice to make the Service Agreement effective August 1, 2000.

Copies of the filing have been provided to the customer and to the Virginia State Corporation Commission.

Comment date: September 18, 2000, in accordance with Standard Paragraph E at the end of this notice.

14. West Texas Utilities Company

[Docket No. ER00-3243-001]

Take notice that on August 28, 2000, West Texas Utilities Company (WTU) filed six revised tariff sheets to its Wholesale Power Choice Tariff (WPC Tariff) to correct certain errors in the headers and pagination of the six WPC tariff sheets that WTU filed on July 24, 2000, in the above-captioned proceeding.

WTU continues to seek an effective date of June 15, 2000 and, accordingly, seeks waiver of the Commission's notice requirements.

Copies of the amended filing have been served on the affected WPC Customers and on the Public Utility Commission of Texas.

Comment date: September 18, 2000, in accordance with Standard Paragraph E at the end of this notice.

15. PacifiCorp

[Docket No. ER00-3079-001]

Take notice that on August 29, 2000, PacifiCorp tendered for filing in compliance with the Commission's conditional acceptance issued on August 18, 2000 under FERC Docket No. ER00-3079-000 and in accordance with the Commission's Order No. 614, designations for revisions to Exhibits B, D, and H to the General Transfer Agreement between PacifiCorp and Bonneville Power Administration.

Copies of this filing were supplied to the Washington Utilities and Transportation Commission and the Public Utility Commission of Oregon.

Comment date: September 19, 2000, in accordance with Standard Paragraph E at the end of this notice.

16. Mid-Continent Area Power Pool

[Docket No. ER00-3544-000]

Take notice that on August 28, 2000, Minnesota Power (MP) filed its tariff sheet that indicates Minnesota Power's open access transmission tariff incorporates Mid-Continent Area Power Pool's (MAPP's) revised Line Loading Relief Procedures, as discussed in Mid-Continent Area Power Pool, Docket Nos. ER99-2469-001, et al.

Comment date: September 18, 2000, in accordance with Standard Paragraph E at the end of this notice.

17. New England Power Pool

[Docket No. ER00-3545-000]

Take notice that on August 28, 2000, the New England Power Pool (NEPOOL) submitted: (1) the Sixty-Second Agreement Amending New England Power Pool Agreement, which implementes new procedures for the resolution of billing disputes within NEPOOL or between NEPOOL Participants and ISO New England Inc. (the ISO); and (2) the Sixty-Third Agreement Amending New England Power Pool Agreement which provides for enhanced notice requirements when a NEPOOL Participant defaults on its obligations to other NEPOOL Participants that are required to provide additional financial assurance under the Financial Assurance Policy for NEPOOL Members to limit their net charges due to NEPOOL and the ISO at any time to the amount of that financial assurance.

On October 27, 2000 effective date is requested for these Agreements.

NEPOOL states that copies of these materials were sent to the Participants in the New England Power Pool, and to the New England state governors and regulatory commissions.

Comment date: September 18, 2000, in accordance with Standard Paragraph E at the end of this notice.

18. Wisconsin Electric Power Company

[Docket No. ER00-3547-000]

Take notice that on August 28, 2000, Wisconsin Electric Power Company (Wisconsin Electric) tendered for filing a short-term firm Transmission Service Agreement and a non-firm Transmission Service Agreement between itself and The Legacy Energy Group (Legacy). The Transmission Service Agreements allow Legacy to receive transmission services under Wisconsin Energy Corporation Operating Companies' FERC Electric Tariff, Volume No. 1.

Copies of the filing have been served on Legacy and El Paso, the Public Service Commission of Wisconsin and the Michigan Public Service Commission.

Comment date: September 18, 2000, in accordance with Standard Paragraph E at the end of this notice.

19. Wisconsin Energy Corporation Operating Companies

[Docket No. ER00-3548-000]

Take notice that on August 28, 2000, Wisconsin Energy Corporation Operating Companies tendered for filing at Notice of Cancellation stating that effective the first day of September, 2000, Service Agreement Nos. 8, 18-21, and 33-37 under Wisconsin Energy Corporation Operating Companies' FERC Electric Tariff, Original Volume No. 1, are to be canceled.

Copies of the filing have been served on El Paso Merchant Energy, L.P., the Michigan Public Service Commission, and the Public Service Commission of Wisconsin.

Comment date: September 18, 2000, in accordance with Standard Paragraph E at the end of this notice.

20. Entergy Services, Inc.

[Docket No. ER00-3549-000]

Take notice that on August 28, 2000, Entergy Services, Inc., on behalf of Entergy Louisiana, Inc., tendered for filing an Interconnection and Operating Agreement with Chevron Oronite Company, LLC (Chevron), a Letter Agreement for Distribution Service Charge between Entergy Services and Chevron, and a Generator Imbalance Agreement with Chevron.

Comment date: September 18, 2000, in accordance with Standard Paragraph E at the end of this notice.

21. Tampa Electric Company

[Docket No. ER00-3551-000]

Take notice that on August 29, 2000, Tampa Electric Company (Tampa Electric) tendered for filing a service agreement with Cinergy Services, Inc. (Cinergy Services) for firm point-to-point transmission service under Tampa Electric's open access transmission tariff.

Tampa Electric proposes an effective date of August 25, 2000, for the tendered service agreement, and therefore requests waiver of the Commission's notice requirement.

Copies of the filing have been served on Cinergy Services and the Florida Public Service Commission.

Comment date: September 19, 2000, in accordance with Standard Paragraph E at the end of this notice.

22. NSTAR Services Company v. New England Power Pool, ISO New England, Inc., ISO New England, Inc., and ISO New England, Inc.

[Docket Nos. EL00-83-003, EL00-83-001, ER00-2811-003, ER00-2811-001, ER00-2937-000, EL00-62-000, and ER00-2052-000]

Take notice that on August 25, 2000, the New England Power Pool (NEPOOL) Participants Committee submitted revisions to its Market Rules in response to requirements of the Commission's July 26, 2000 order in Docket Nos. EL00-83-000, EL00-2052-000. New England Power Pool, 92 FERC 61, 065 (2000). In accordance with the requirements of that order, NEPOOL has noted an effective date of July 26, 2000.

The NEPOOL Participants committee states that copies of these materials were sent to all persons identified on the service lists in the captioned proceedings, the NEPOOL Participants and the six New England state governors and regulatory commissions.

Comment date: September 25, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-23065 Filed 9-7-00; 8:45 am]

BILLING CODE 6717-01-M